ENVIRONMENTAL PROTECTION AGENCY

40 CFR Part 52

[GA-200922; FRL-9097-5]

Approval and Promulgation of Air Quality Implementation Plans; Georgia: Update to Materials Incorporated by Reference

AGENCY: Environmental Protection Agency (EPA).

ACTION: Final rule; administrative change.

SUMMARY: EPA is publishing this action to provide the public with notice of the update to the Georgia State Implementation Plan (SIP) compilation. In particular, materials submitted by Georgia that are incorporated by reference (IBR) into the Georgia SIP are being updated to reflect EPA-approved revisions to Georgia's SIP that have occurred since the last update. In this action EPA is also notifying the public of the correction of certain typographical errors.

DATES: This action is effective February 8, 2010.

ADDRESSES: SIP materials which are incorporated by reference into 40 CFR part 52 are available for inspection at the following locations: Environmental Protection Agency, Region 4, 61 Forsyth Street, SW., Atlanta, GA 30303; the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal-register/cfr/ibr-locations.html.

FOR FURTHER INFORMATION CONTACT: Ms. Stacy Harder at the above Region 4 address or at (404) 562-9042.

SUPPLEMENTARY INFORMATION: Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the SIP to EPA. Once these control measures and strategies are approved by EPA, after notice and comment, they are incorporated into the federally approved SIP and are identified in part 52 “Approval and Promulgation of Implementation Plans,” Title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on SIP revisions containing new and/or revised regulations as being part of the SIP. On May 22, 1997, (62 FR 27968), EPA revised the procedures for incorporating by reference, into the Code of Federal Regulations, materials submitted by states in their EPA-approved SIP revisions. These changes revised the format for the identification of the SIP in 40 CFR part 52, stream-lined the mechanisms for announcing EPA approval of revisions to a SIP, and stream-lined the mechanisms for EPA's updating of the IBR information contained for each SIP in 40 CFR part 52. The revised procedures also called for EPA to maintain “SIP Compilations” that contain the federally-approved regulations and source specific permits submitted by each state agency. These SIP Compilations are contained in 3-ring binders and are updated primarily on an annual basis. Under the revised procedures, EPA is to periodically publish an informational document in the rules section of the Federal Register when updates are made to a SIP Compilation for a particular state. EPA's 1997 revised procedures were formally applied to Georgia on May 21, 1999 (64 FR 27699).

This action represents EPA's publication of the Georgia SIP Compilation update, appearing in 40 CFR part 52. In addition, notice is provided of the following typographical corrections to Table (c), (d), and (e) of paragraph 52.570, as described below:

1. Correcting typographical errors listed in paragraph 52.570(c), (d), and (e), as described below:

a. Revising paragraph 52.570(d) by removing all periods after the Federal Register notice citations in the “EPA Approval Date” column.

b. Revising the format of the date in the “State submittal date/effective date” column for “Murray County 8-Hour Ozone Maintenance Plan” in paragraph 52.570(e) to read as “6/15/07.”

c. Revising paragraph 52.570(c) by removing the state effective date and EPA approval date for 391-3-1-.02, “Provisions” and merging these cells to re-format “Provisions” as a header.

d. Revising paragraph 52.570(c), by correcting the state citation for “391-3-1.02(2),” to read as “391-3-1-.02(2).”

e. Revising paragraph 52.570(c) by removing the state effective date and EPA approval date for 391-3-1-.02(2), “Emission Standards” and merging these cells to re-format “Emission Standards” as a header.

f. Revising paragraph 52.570(c) by correcting entries for 391-3-1-.02(2)(3) through 391-3-1-.02(2)(7) and 391-3-1-.02(2)(11) to read as “391-3-1-.02(3),” “391-3-1-.02(4),” “391-3-1-.02(5),” “391-3-1-.02(6),” “391-3-1-.02(7),” and “391-3-1-.02(11).”

g. Revising paragraph 52.570(e) by entering “Atlanta Metropolitan Area” in the “Applicable geographic or nonattainment area” column for entries 2 through 11.

h. Revising paragraph 52.570(e) by entering “6/17/96” in the “State Submittal date/effective date” column for entries 2 through 11.

i. Revising paragraph 52.570(e) by entering “4/26/99” in the “EPA approval date” column for entries 2 through 11.

j. Revising paragraph 52.570(e) by removing the entry for “Alternative Fuel Refueling Station/Park and Ride Transportation Center, Project DO-AR-211 is removed.”

k. Revising paragraph 52.570(e) by revising the “EPA approval date” for entry “24. Alternative Fuel Refueling Station/Park and Ride Transportation Center, Project DO-AR-211 is removed,” to read as “11/28/06, 71 FR 68743.”

2. Revising the date format listed in paragraphs 52.570(c), (d) and (e); specifically the date format in the “state effective date,” and “EPA approval date,” columns for consistency. Dates are revised to be numerical month/day/year without additional zeros.

EPA has determined that today's action falls under the “good cause” exemption in the section 553(b)(3)(B) of the Administrative Procedure Act (APA) which, upon finding “good cause,” authorizes agencies to dispense with public participation and section 553(d)(3) which allows an agency to make an action effective immediately (thereby avoiding the 30-day delayed effective date otherwise provided for in the APA). Today's administrative action simply codifies provisions which are already in effect as a matter of law in Federal and approved state programs and corrects typographical errors appearing the Federal Register. Under section 553 of the APA, an agency may find good cause where procedures are “impractical, unnecessary, or contrary to the public interest.” Public comment for this administrative action is “unnecessary” and “contrary to the public interest” since the codification (and typographical corrections) only reflect existing law. Immediate notice of this action in the Federal Register benefits the public by providing the public notice of the updated Georgia SIP Compilation and notice of typographical corrections to the Georgia “Identification of Plan” portion of the Federal Register.

Statutory and Executive Order Reviews

A. General Requirements

Under Executive Order 12866 (58 FR 51735, October 4, 1993), this administrative action is not a “significant regulatory action” and is therefore not subject to review by the Office of Management and Budget. This action is not subject to Executive Order 13211, “Actions Concerning Regulations That Significantly Affect Energy Supply, Distribution, or Use” (66 FR 28355, May 22, 2001) because it is not a significant regulatory action under Executive Order 12866. Because the Agency has made a “good cause” finding that this action is not subject to notice-and-comment requirements under the APA or any other statute as indicated in the Supplementary Information section above, it is not subject to the regulatory flexibility provisions of the Regulatory Flexibility Act (5 U.S.C. 601 et seq.), or to sections 202 and 205 of the Unfunded Mandates Reform Act (UMRA) of 1995 (Pub. L. 104-4). In addition, this action does not significantly or uniquely affect small governments or impose a significant intergovernmental mandate, as described in sections 203 and 204 of UMRA. This administrative action also does not have a substantial direct effect on one or more Indian tribes, on the relationship between the Federal government and Indian tribes, or on the distribution of power and responsibilities between the Federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This administrative action also is not subject to Executive Order 13045 (62 FR 19885, April 23, 1997), because it is not economically significant. This administrative action does not involve technical standards; thus the requirements of section 12(d) of the National Technology Transfer and Advancement Act of 1995 (15 U.S.C. 272 note) do not apply. This administrative action also does not involve special consideration of environmental justice related issues as required by Executive Order 12898 (59 FR 7629, February 16, 1994). This administrative action does not impose an information collection burden under the Paperwork Reduction Act of 1995 (44 U.S.C. 3501 et seq.). EPA's compliance with these Statutes and Executive Orders for the underlying rules are discussed in previous actions taken on the State's rules.

B. Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's administrative action simply codifies (and corrects) provisions which are already in effect as a matter of law in Federal and approved state programs. 5 U.S.C. 808(2). These announced actions were effective when EPA approved them through previous rulemaking actions. EPA will submit a report containing this action and other required information to the U.S. Senate, the U.S. House of Representatives, and the Comptroller General of the United States prior to publication of this action in the Federal Register. This update to Georgia's SIP Compilation and correction of typographical errors is not a “major rule” as defined by 5 U.S.C. 804(2).

C. Petitions for Judicial Review

EPA has also determined that the provisions of section 307(b)(1) of the Clean Air Act pertaining to petitions for judicial review are not applicable to this action. This action is simply an announcement of prior rulemakings that have previously undergone notice and comment rulemaking. Prior EPA rulemaking actions for each individual component of the Georgia SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 15, 2009.
J. Scott Gordon,
Acting Regional Administrator, Region 4.

40 CFR part 52 is amended as follows:

PART 52—[AMENDED]

1. The authority for citation for part 52 continues to read as follows:

Authority: 42 U.S.C. 7401 et seq.

Subpart L—Georgia

2. Section 52.570 is amended by revising paragraphs (b), (c), (d), and (e) to read as follows:

§ 52.570 Identification of plan.

* * * * *

(b) Incorporation by reference.

(1) Material listed in paragraphs (c) and (d) of this section with an EPA approval date prior to September 1, 2009, for Georgia was approved for incorporation by reference by the Director of the Federal Register in accordance with 5 U.S.C. 552(a) and 1 CFR part 51. Material is incorporated as it exists on the date of the approval, and notice of any change in the material will be published in the Federal Register. Entries in paragraphs (c) and (d) of this section with EPA approval dates after September 1, 2009, for Georgia will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 4 EPA Office at 61 Forsyth Street, SW., Atlanta, GA 30303, the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal-register/cfr/ibr-locations.html.

(c) EPA approved regulations.

EPA Approved Georgia Regulations
State citation | Title/subject | State effective date | EPA approval date | Explanation
391-3-1-.01 | Definitions | 6/8/08 | 6/11/09, 74 FR 27713 |
391-3-1-.02 | Provisions
391-3-1-.02(1) | General Requirements | 3/20/79 | 9/18/79, 44 FR 54047 |
391-3-1-.02(2) | Emission Standards
391-3-1-.02(2)(a) | General Provisions | 6/8/08 | 6/11/09, 74 FR 27713 | Except for paragraph 391-3-1-.02(2)(a)1.
391-3-1-.02(2)(b) | Visible Emissions | 1/17/79 | 9/18/79, 44 FR 54047 |
391-3-1-.02(2)(c) | Incinerators | 6/15/98 | 12/2/99, 64 FR 67491 |
391-3-1-.02(2)(d) | Fuel-burning Equipment | 1/17/79 | 9/18/79, 44 FR 54047 |
391-3-1-.02(2)(e) | Particulate Emission from Manufacturing Processes | 1/17/79 | 9/18/79, 44 FR 54047 |
391-3-1-.02(2)(f) | Normal Superphosphate Manufacturing Facilities | 1/17/79 | 9/18/79, 44 FR 54047 |
391-3-1-.02(2)(g) | Sulfur Dioxide | 7/17/02 | 7/9/03, 68 FR 40789 |
391-3-1-.02(2)(h) | Portland Cement Plants | 1/17/79 | 9/18/79, 44 FR 54047 |
391-3-1-.02(2)(i) | Nitric Acid Plants | 1/17/79 | 9/18/79, 44 FR 54047 |
391-3-1-.02(2)(j) | Sulfuric Acid Plants | 1/17/79 | 9/18/79, 44 FR 54047 |
391-3-1-.02(2)(k) | Particulate Emission from Asphaltic Concrete Hot Mix Plants | 1/17/79 | 9/18/79, 44 FR 54047 |
391-3-1-.02(2)(l) | Conical Burners | 1/17/79 | 9/18/79, 44 FR 54047 |
391-3-1-.02(2)(m) | Repealed | 6/30/75 | 10/3/75, 40 FR 45818 |
391-3-1-.02(2)(n) | Fugitive Dust | 1/17/79 | 9/18/79, 44 FR 54047 |
391-3-1-.02(2)(o) | Cupola Furnaces for Metallurgical Melting | 1/27/72 | 5/31/72, 37 FR 10842 |
391-3-1-.02(2)(p) | Particulate Emissions from Kaolin and Fuller's Earth Processes | 12/16/75 | 8/20/76, 41 FR 35184 |
391-3-1-.02(2)(q) | Particulate Emissions from Cotton Gins | 1/27/72 | 5/31/72, 37 FR 10842 |
391-3-1-.02(2)(r) | Particulate Emissions from Granular and Mixed Fertilizer Manufacturing Units | 1/27/72 | 5/31/72, 37 FR 10842 |
391-3-1-.02(2)(t) | VOC Emissions from Automobile and Light Duty Truck Manufacturing | 12/20/94 | 2/2/96, 61 FR 3817 |
391-3-1-.02(2)(u) | VOC Emissions from Can Coating | 1/9/91 | 10/13/92, 57 FR 46780 |
391-3-1-.02(2)(v) | VOC Emissions from Coil Coating | 1/9/91 | 10/13/92, 57 FR 46780 |
391-3-1-.02(2)(w) | VOC Emissions from Paper Coating | 1/9/91 | 10/13/92, 57 FR 46780 |
391-3-1-.02(2)(x) | VOC Emissions from Fabric and Vinyl Coating | 1/9/91 | 10/13/92, 57 FR 46780 |
391-3-1-.02(2)(y) | VOC Emissions from Metal Furniture Coating | 1/9/91 | 10/13/92, 57 FR 46780 |
391-3-1-.02(2)(z) | VOC Emissions from Large Appliance Surface Coating | 1/9/91 | 10/13/92, 57 FR 46780 |
391-3-1-.02(2)(aa) | VOC Emissions from Wire Coating | 1/9/91 | 10/13/92, 57 FR 46780 |
391-3-1-.02(2)(bb) | Petroleum Liquid Storage | 1/9/91 | 10/13/92, 57 FR 46780 |
391-3-1-.02(2)(cc) | Bulk Gasoline Terminals | 1/9/91 | 10/13/92, 57 FR 46780 |
391-3-1-.02(2)(dd) | Cutback Asphalt | 1/17/79 | 9/18/79, 44 FR 54047 |
391-3-1-.02(2)(ee) | Petroleum Refinery | 1/9/91 | 10/13/92, 57 FR 46780 |
391-3-1-.02(2)(ff) | Solvent Metal Cleaning | 5/29/96 | 4/26/99, 64 FR 20186 |
391-3-1-.02(2)(gg) | Kraft Pulp Mills | 6/3/88 | 9/30/88, 53 FR 38290 |
391-3-1-.02(2)(hh) | Petroleum Refinery Equipment Leaks | 6/24/94 | 2/2/96, 61 FR 3817 |
391-3-1-.02(2)(ii) | VOC Emissions from Surface Coating of Miscellaneous Metal Parts and Products | 10/7/99 | 7/10/01, 66 FR 35906 |
391-3-1-.02(2)(jj) | VOC Emissions from Surface Coating of Flat Wood Paneling | 4/3/91 | 10/13/92, 57 FR 46780 |
391-3-1-.02(2)(kk) | VOC Emissions from Synthesized Pharmaceutical Manufacturing | 12/18/80 | 11/24/81, 46 FR 57486 |
391-3-1-.02(2)(ll) | VOC Emissions from the Manufacture of Pneumatic Rubber Tires | 12/18/80 | 11/24/81, 46 FR 57486 |
391-3-1-.02(2)(mm) | VOC Emissions from Graphic Arts Systems | 4/3/91 | 10/13/92, 57 FR 46780 |
391-3-1-.02(2)(nn) | VOC Emissions from External Floating Roof Tanks | 12/18/80 | 11/24/81, 46 FR 57486 |
391-3-1-.02(2)(oo) | Fiberglass Insulation Manufacturing Plants | 12/18/80 | 11/24/81, 46 FR 57486 |
391-3-1-.02(2)(pp) | Bulk Gasoline Plants | 1/8/05 | 8/26/05 70 FR 50199 |
391-3-1-.02(2)(qq) | VOC Emissions from Large Petroleum Dry Cleaners | 4/3/91 | 10/13/92, 57 FR 46780 |
391-3-1-.02(2)(rr) | Gasoline Dispensing Facility—Stage I | 1/8/05 | 8/26/05, 70 FR 50199 |
391-3-1-.02(2)(ss) | Gasoline Transport Vehicles and Vapor Collection Systems | 1/8/05 | 8/26/05, 70 FR 50199 |
391-3-1-.02(2)(tt) | VOC Emissions from Major Sources | 2/16/00 | 7/10/01, 66 FR 35906 |
391-3-1-.02(2)(uu) | Visibility Protection | 10/31/85 | 1/28/86, 51 FR 3466 |
391-3-1-.02(2)(vv) | Volatile Organic Liquid Handling and Storage | 2/16/00 | 7/10/01, 66 FR 35906 |
391-3-1-.02(2)(ww) | Perchloroethylene Dry Cleaners | 11/15/94 | 6/27/96, 61 FR 33372 | Repealed.
391-3-1-.02(2)(yy) | Emissions of Nitrogen Oxides from Major Sources | 7/8/04 | 5/9/05, 70 FR 24310 |
391-3-1-.02(2)(zz) | Gasoline Dispensing Facilities—Stage II | 12/26/01 | 7/11/02, 67 FR 45909 |
391-3-1-.02(2)(aaa) | Consumer and Commercial Products | 10/27/93 | 4/26/99, 64 FR 20186 |
391-3-1-.02(2)(bbb) | Gasoline Marketing | 6/24/03 | 6/17/04, 69 FR 33864 |
391-3-1-.02(2)(ccc) | VOC Emissions from Bulk Mixing Tanks | 2/16/00 | 7/10/01, 66 FR 35906 |
391-3-1-.02(2)(ddd) | VOC Emissions from Offset Lithography | 2/16/00 | 7/10/01, 66 FR 35906 |
391-3-1-.02(2)(eee) | VOC Emissions from Expanded Polystyrene Products Manufacturing | 2/16/00 | 7/10/01, 66 FR 35906 |
391-3-1-.02(2)(fff) | Particulate Matter Emissions from Yarn Spinning Operations | 6/15/98 | 12/2/99, 64 FR 67491 |
391-3-1-.02(2)(hhh) | Wood Furniture Finishing and Cleaning Operations | 2/16/00 | 7/10/01, 66 FR 35906 |
391-3-1-.02(2)(jjj) | NOX Emissions from Electric Utility Steam Generating Units | 7/17/02 | 7/9/03, 68 FR 40789 |
391-3-1-.02(2)(kkk) | VOC Emissions from Aerospace Manufacturing and Rework Facilities | 2/16/00 | 7/10/01, 66 FR 35906 |
391-3-1-.02(2)(lll) | NOX Emissions from Fuel-burning Equipment | 2/16/00 | 7/10/01, 66 FR 35906 |
391-3-1-.02(2)(mmm) | NOX Emissions from Stationary Gas Turbines and Stationary Engines used to Generate Electricity | 2/16/00 | 7/10/01, 66 FR 35906 |
391-3-1-.02(2)(nnn) | NOX Emissions from Large Stationary Gas Turbines | 2/16/00 | 7/10/01, 66 FR 35906 |
391-3-1-.02(2)(ooo) | Heavy-Duty Diesel Engine Requirements | 12/28/01 | 7/11/02, 67 FR 45909 |
391-3-1-.02(3) | Sampling | 6/15/98 | 12/2/99, 64 FR 67491 |
391-3-1-.02(4) | Ambient Air Standards | 1/9/91 | 12/14/92, 57 FR 58989 |
391-3-1-.02(5) | Open Burning | 1/8/05 | 8/26/05, 70 FR 50199 |
391-3-1-.02(6) | Source Monitoring | 12/28/00 | 7/11/02, 67 FR 45909 |
391-3-1-.02(7) | Prevention of Significant Deterioration of Air Quality (PSD) | 6/15/98 | 12/2/99, 64 FR 67491 |
391-3-1.02(11) | Compliance Assurance Monitoring | 6/15/98 | 12/2/99, 64 FR 67491 |
391-3-1-.02(12) | Clean Air Interstate Rule NOX Annual Trading Program | 2/28/07 | 10/9/07, 72 FR 57202 |
391-3-1-.02(13) | Clean Air Interstate Rule SO2 Annual Trading Program | 2/28/07 | 10/9/07, 72 FR 57202 |
391-3-1-.03 | Permits | 7/8/04 | 5/9/05, 70 FR 24310 | Paragraph (9) Permit Fees; Paragraph (10) Title V Operating Permits are not federally approved.
391-3-1-.04 | Air Pollution Episodes | 11/20/75 | 8/20/76, 41 FR 35184 |
391-3-1-.05 | Regulatory Exceptions | 11/22/92 | 2/2/96, 61 FR 3819 |
391-3-1-.07 | Inspections and Investigations | 11/20/75 | 8/20/76, 41 FR 35184 |
391-3-1-.08 | Confidentiality of information | 11/20/75 | 8/20/76, 41 FR 35184 |
391-3-1-.09 | Enforcement | 11/22/92 | 2/2/96, 61 FR 3819 |
391-3-1-.10 | Continuance of Prior Rules | 11/22/92 | 2/2/96, 61 FR 3819 |
391-3-20 | Enhanced Inspection and Maintenance | 12/28/08 | 4/17/09, 74 FR 17783 |
391-3-22 | Clean Fueled Fleets | 6/15/98 | 12/2/99, 64 FR 67491 |

(d) EPA-Approved State Source specific requirements.

EPA-Approved Georgia Source-Specific Requirements
Name of source | Permit No. | State effective date | EPA approval date | Comments
Georgia Power Plant Bowen | EPD-AQC-180 | 11/17/80 | 8/17/81, 46 FR 41498
Georgia Power Plant Harllee Branch | 4911-117-6716-0 | 4/23/80 | 5/5/81, 46 FR 25092
ITT Rayonier, Inc. | 2631-151-7686-C | 11/4/80 | 8/14/81, 46 FR 41050
Georgia Power Plant Bowen | EPD-AQC-163 | 5/16/79 | 1/3/80, 45 FR 781
Union Camp | 2631-025-7379-0 | 12/18/81 | 4/13/82, 47 FR 15794
Blue Bird Body Company | 3713-111-8601 | 1/27/84 | 1/7/85, 50 FR 765
Plant McDonough | 4911-033-5037-0 conditions 10 through 22 | 12/27/95 | 3/18/99, 64 FR 13348
Plant Yates | 4911-038-4838-0 conditions 19 through 32 | 12/27/95 | 3/18/99, 64 FR 13348
Plant Yates | 4911-038-4839-0 conditions 16 through 29 | 12/27/95 | 3/18/99, 64 FR 13348
Plant Yates | 4911-038-4840-0 conditions 16 through 29 | 12/27/95 | 3/18/99, 64 FR 13348
Plant Yates | 4911-038-4841-0 conditions 16 through 29 | 12/27/95 | 3/18/99, 64 FR 13348
Plant Atkinson | 4911-033-1321-0 conditions 8 through 13 | 11/15/94 | 3/18/99, 64 FR 13348
Plant Atkinson | 4911-033-1322-0 conditions 8 through 13 | 11/15/94 | 3/18/99, 64 FR 13348
Plant Atkinson | 4911-033-6949 conditions 5 through 10 | 11/15/94 | 3/18/99, 64 FR 13348
Plant Atkinson | 4911-033-1320-0 conditions 8 through 13 | 11/15/94 | 3/18/99, 64 FR 13348
Plant Atkinson | 4911-033-1319-0 conditions 8 through 13 | 11/15/94 | 3/18/99, 64 FR 13348
Plant McDonough | 4911-033-6951 conditions 5 through 10 | 11/15/94 | 3/18/99, 64 FR 13348
Atlanta Gas Light Company | 4922-028-10902 conditions 20 and 21 | 11/15/94 | 3/18/99, 64 FR 13348
Atlanta Gas Light Company | 4922-031-10912 conditions 27 and 28 | 11/15/94 | 3/18/99, 64 FR 13348
Austell Box Board Corporation | 2631-033-11436 conditions 1 through 5 | 11/15/94 | 3/18/99, 64 FR 13348
Emory University | 8922-044-10094 conditions 19 through 26 | 11/15/94 | 3/18/99, 64 FR 13348
General Motors Corporation | 3711-044-11453 conditions 1 through 6 and Attachment A | 11/15/94 | 3/18/99, 64 FR 13348
Georgia Proteins Company | 2077-058-11226 conditions 16 through 23 and Attachment A | 11/15/94 | 3/18/99, 64 FR 13348
Owens-Brockway Glass Container, Inc | 3221-060-10576 conditions 26 through 28 and Attachment A | 11/15/94 | 3/18/99, 64 FR 13348
Owens-Corning Fiberglass Corporation | 3296-060-10079 conditions 25 through 29 | 11/15/94 | 3/18/99, 64 FR 13348

(e) EPA-Approved Georgia non-regulatory provisions.

Name of nonregulatory SIP provision | Applicable geographic or nonattainment area | State submittal date/effective date | EPA approval date
1. High Occupancy Vehicle (HOV) lane on I-85 from Chamblee-Tucker Road to State Road 316 | Atlanta Metropolitan Area | 11/15/93 and amended on 6/17/96 | 3/18/99 and 4/26/99.
2. Clean Fuel Vehicles Revolving Loan Program | Atlanta Metropolitan Area | 6/17/96 | 4/26/99.
3. Regional Commute Options Program and HOV Marketing Program | Atlanta Metropolitan Area | 6/17/96 | 4/26/99.
4. HOV lanes on I-75 and I-85 | Atlanta Metropolitan Area | 6/17/96 | 4/26/99.
5. Two Park and Ride Lots: Rockdale County-Sigman at I-20 and Douglas County-Chapel Hill at I-20 | Atlanta Metropolitan Area | 6/17/96 | 4/26/99.
6. MARTA Express Bus routes (15 buses) | Atlanta Metropolitan Area | 6/17/96 | 4/26/99.
7. Signal preemption for MARTA routes #15 and #23 | Atlanta Metropolitan Area | 6/17/96 | 4/26/99.
8. Improve and expand service on MARTA's existing routes in southeast DeKalb County | Atlanta Metropolitan Area | 6/17/96 | 4/26/99.
9. Acquisition of clean fuel buses for MARTA and Cobb County Transit | Atlanta Metropolitan Area | 6/17/96 | 4/26/99.
10. ATMS/Incident Management Program on I-75/I-85 inside I-285 and northern ARC of I-285 between I-75 and I-85 | Atlanta Metropolitan Area | 6/17/96 | 4/26/99.
11. Upgrading, coordination and computerizing intersections | Atlanta Metropolitan Area | 6/17/96 | 4/26/99.
12. Georgia Interagency Transportation Conformity Memorandum of Agreement, except for the following sections: Section 103(4)(d); Section 105(e); Section 106(c); Section 110(c)(1)(ii); Section 110(c)(2)(ii); Section 110(d)(2)(i); Section 110(d)(3)(i); Section 110(e)(2)(i); Section 110(e)(3)(i); Section 119(e)(1); Section 119b(a)(2); Section 130(1); and Section 133 | Atlanta Metropolitan Area | 2/16/99 | 11/26/02.
13. Atlantic Steel Transportation Control Measure | Atlanta Metropolitan Area | 3/29/00 | 8/28/00.
14. Procedures for Testing and Monitoring Sources of Air Pollutants | Atlanta Metropolitan Area | 7/31/00 | 7/10/01.
15. Enhanced Inspection/Maintenance Test Equipment, Procedures and Specifications | Atlanta Metropolitan Area | 9/20/00 | 7/10/01.
16. Preemption Waiver Request for Low-RVP, Low-Sulfur Gasoline Under Air Quality Control Rule 391-3-1-.02(2)(bbb) | Atlanta Metropolitan Area | 5/31/00 | 2/22/02.
17. Technical Amendment to the Georgia Fuel Waiver Request of May 31, 2000 | Atlanta Metropolitan Area | 11/9/01 | 2/22/02.
18. Georgia's State Implementation Plan for the Atlanta Ozone Nonattainment Area | Atlanta Metropolitan Area | 7/17/01 | 5/7/02.
19. Post-1999 Rate of Progress Plan | Atlanta Metropolitan Area | 12/24/03 | 7/19/04, 69 FR 42884.
20. Severe Area Vehicle Miles Traveled (VMT SIP) for the Atlanta 1-hour severe ozone nonattainment area | Atlanta 1-hour ozone severe nonattainment area | 6/30/04 | 6/14/05, 70 FR 34358.
21. Atlanta 1-hour ozone attainment area 2015 maintenance plan | Atlanta severe 1-hour ozone maintenance area | 2/1/05 | 6/14/05, 70 FR 34660.
22. Attainment Demonstration for the Chattanooga Early Action Area | Walker and Catoosa Counties | 12/31/04 | 8/26/05, 70 FR 50199.
23. Attainment Demonstration for the Lower Savannah-Augusta Early Action Compact Area | Columbia and Richmond Counties | 12/31/04 | 8/26/05, 70 FR 50195.
24. Alternative Fuel Refueling Station/Park and Ride Transportation Center, Project DO-AR-211 is removed | Douglas County, GA | 9/19/06 | 11/28/06, 71 FR 68743.
25. Macon 8-hour Ozone Maintenance Plan | Macon, GA encompassing a portion of Monroe County | 6/15/07 | 9/19/07, 72 FR 53432.
26. Murray County 8-hour Ozone Maintenance Plan | Murray County | 6/15/07 | 10/16/07, 72 FR 58538.
27. Atlanta Early Progress Plan | Barrow, Bartow, Carroll, Cherokee, Clayton, Cobb, Coweta, DeKalb, Douglas, Fayette, Forsyth, Fulton, Gwinnett, Hall, Henry, Newton, Paulding, Rockdale, Spalding and Walton counties | 1/12/07 | 2/20/08, 73 FR 9206.

[FR Doc. 2010-2573 Filed 2-5-10; 8:45 am]

BILLING CODE 6560-50-P